NATIONAL ARCHIVES AND RECORDS ADMINISTRATION

36 CFR Parts 1253 and 1280

[FDMS No. NARA-20-0005; NARA-2020-024]

RIN 3095-AC03

NARA Facilities, Locations, Hours, and Public Use

AGENCY: National Archives and Records Administration (NARA).

ACTION: Direct final rule.

SUMMARY: We are updating our regulation listing our facility addresses and contact information to reflect changes to this information. We are also revising our regulation on public use of NARA facilities to remove outdated procedures, update in response to organizational and technological changes, and streamline the provisions for easier reading. We are also revising both regulations for plain language purposes.

DATES: This rule is effective June 15, 2020, without further action, unless we receive actionable adverse comments by June 5, 2020. If we receive such comments, we will publish a withdrawal of the rule in the Federal Register.

ADDRESSES: You may submit comments, identified by RIN 3095-AC03, by either of the following methods:

• Federal eRulemaking Portal: http://www.regulations.gov. Follow the site's instructions for submitting comments.

• Mail (for paper, flash drive, or CD-ROM submissions. Include RIN 3095-AC03 on the submission): National Archives and Records Administration; Regulation Comments Desk, Suite 4100; 8601 Adelphi Road; College Park, MD 20740-6001.

Instructions: All submissions must include NARA's name and the regulatory information number for this rulemaking (RIN 3095-AC03). We may publish any comments we receive without changes, including any personal information you include.

FOR FURTHER INFORMATION CONTACT: Kimberly Keravuori, Regulatory and External Policy Program Manager, by email at regulation_comments@nara.gov, or by telephone at 301.837.3151.

SUPPLEMENTARY INFORMATION: We are updating addresses and contact information for Presidential libraries, records centers, and archival research facilities to reflect changes in operations, to add websites and email addresses and similar technology changes, to update URLs, and similar administrative changes. We are also updating information about public use of our facilities to better clarify provisions, including the kinds of events for which the public may request use of our spaces and the difference between removal and banning if it becomes necessary to restrict a person's use. We are streamlining and clarifying rules regarding behavior and removing outdated provisions regarding requests to use space for private events. These changes will affect all customers who do business with NARA. This rule is effective after 40 days for good cause as permitted by the Administrative Procedure Act (5 U.S.C. 553(d)(3)). We believe that a longer standard public comment period is unnecessary as this rule makes only minor changes to our agency facility regulations and does not change substantive requirements people must follow.

Regulatory Analysis

Review Under Executive Order 12866, Regulatory Planning and Review, 58 FR 51735 (September 30, 1993), and Executive Order 13563, Improving Regulation and Regulation Review, 76 FR 23821 (January 18, 2011)

The Office of Management and Budget (OMB) has reviewed this rulemaking and determined it is not “significant” under section 3(f) of Executive Order 12866. It is not significant because it consists of administrative and minor revisions, involves agency organization and management, does not change substantive requirements, and imposes no costs on the public.

Review Under the Regulatory Flexibility Act (5 U.S.C. 601, et seq.)

This review requires an agency to prepare an initial regulatory flexibility analysis and publish it when the agency publishes the proposed rule. This requirement does not apply if the agency certifies that the rulemaking will not, if promulgated, have a significant economic impact on a substantial number of small entities (5 U.S.C. 603). We certify, after review and analysis, that this rulemaking will not have a significant adverse economic impact on small entities.

Review Under the Paperwork Reduction Act of 1995 (44 U.S.C. 3501 et seq.)

This rulemaking does not impose additional information collection requirements on the public that are subject to the Paperwork Reduction Act. However, 36 CFR 1280 continues to include three associated information collections already approved by OMB: 3095-0024, request to use Presidential library spaces, 3095-0040, request to film, photograph, or videotape, and 3095-0043, request to use NARA spaces. Because we are removing several sections of this regulation and reorganizing the provisions to be more streamlined, we are submitting a non-substantive change request to OMB to change the regulatory section numbers referred to in the information collections accordingly.

Review Under Executive Order 13132, Federalism, 64 FR 43255 (August 4, 1999)

Review under Executive Order 13132 requires that agencies review regulations for Federalism effects on the institutional interest of states and local governments, and, if the effects are sufficiently substantial, prepare a Federal assessment to assist senior policy makers. This rulemaking will not have any effects on state and local governments within the meaning of the Executive Order. Therefore, no Federalism assessment is required.

Review Under Executive Order 13771, Reducing Regulation and Controlling Regulatory Costs, 82 FR 9339 (February 3, 2017)

Review under E.O. 13771 seeks to reduce Federal regulations that impose private expenditures in order to comply with them, and to control those costs in any such regulations. OMB has reviewed this rulemaking and determined that it is exempt from E.O. 13771 requirements. This rulemaking is exempt because it involves agency organization, management, or personnel, modifies an existing rule, and does not involve regulatory costs subject to the Executive Order.

Review Under the Unfunded Mandates Reform Act (Sec. 202, Public Law 104-4; 2 U.S.C. 1532)

Review under the Unfunded Mandates Reform Act requires that agencies determine whether any Federal mandate in the rulemaking may result in state, local, and tribal governments, in the aggregate, or the private sector, expending $100 million in any one year. NARA certifies that this rulemaking does not contain a Federal mandate that may result in such an expenditure, and this rulemaking is therefore not subject to this requirement.

List of Subjects

36 CFR Part 1253

Archives and records, Federal buildings and facilities, Presidential libraries.

36 CFR Part 1280

Archives and records, Federal buildings and facilities, Presidential libraries.

For the reasons stated in the preamble, NARA revises 36 CFR parts 1253 and 1280 as follows:

1. Revise part 1253 to read as follows:

PART 1253—LOCATION OF NARA FACILITIES AND HOURS OF USE

Sec.
1253.1 National Archives Building in Washington, DC.
1253.2 National Archives at College Park.
1253.3 Presidential libraries and museums.
1253.4 Federal records centers (FRCs).
1253.5 Archival research rooms and facilities outside Washington, DC.
1253.6 Office of the Federal Register.
1253.7 Office of Government Information Services.
1253.8 The Center for Legislative Archives.
1253.9 Notification process for changes in hours.

Authority: 44 U.S.C. 2104(a).

§ 1253.1 National Archives Building in Washington, DC.

(a) The Museum and Rotunda. The entrance to the National Archives Museum, including the Rotunda and Charters of Freedom, is on Constitution Avenue NW, between 7th and 9th Streets. The Museum is open every day except Thanksgiving and December 25. Last admission to the Museum is 30 minutes prior to closing. Admission to the Museum is free, although you may make advance reservations online for a service charge. Information on hours and reservations is online at https://museum.archives.gov/visit. The phone number for Museum information is 202.357.5061.

(b) Research. The research entrance is located at 700 Pennsylvania Avenue NW. Research hours are online at https://www.archives.gov/dc. The phone number for the National Archives Building is 866.272.6272.

(c) The building's address is 700 Pennsylvania Avenue NW; Washington, DC 20408.

§ 1253.2 National Archives at College Park.

The National Archives at College Park is located at 8601 Adelphi Road; College Park, MD 20740-6001. Hours for the building (including the Research Center) are online at https://www.archives.gov/college-park. The phone number for the building is 301.837.2000 and for the Research Center is 800.234.8861.

§ 1253.3 Presidential libraries and museums.

(a) The Presidential library museums are open every day except Thanksgiving, December 25, and January 1.

(b) Presidential library research hours vary by library, and research rooms are not open on weekends or Federal holidays. The Barack Obama Presidential Library is not open to the public at this time.

(c) Contact information for each library and museum is online at https://www.archives.gov/locations#presidential-libraries and listed as follows:

(1) Herbert Hoover Library and Museum. Location: 210 Parkside Drive; West Branch, IA 52358. Mailing address: P.O. Box 488; West Branch, IA 52358. Email address: hoover.library@nara.gov. Phone number: 319.643.5301. Website: https://hoover.archives.gov/.

(2) Franklin D. Roosevelt Library and Museum. Location: 4079 Albany Post Road; Hyde Park, NY 12538-1999. Email address: roosevelt.library@nara.gov. Phone number: 800.FDR.VISIT or 845.486.7770. Website: https://www.fdrlibrary.org/.

(3) Harry S. Truman Library and Museum. Location: 500 W U.S. Highway 24; Independence, MO 64050-1798. Email address: truman.library@nara.gov. Phone number: 800.833.1225 or 816.268.8200. Website: https://www.trumanlibrary.gov/.

(4) Dwight D. Eisenhower Library and Museum. Location: 200 SE Fourth Street; Abilene, KS 67410-2900. Email address: eisenhower.library@nara.gov. Phone number: 877.RING.IKE or 785.263.6700. Website: https://www.eisenhowerlibrary.gov/.

(5) John Fitzgerald Kennedy Library and Museum. Location: Columbia Point; Boston, MA 02125-3398. Email address: kennedy.library@nara.gov. Phone number: 866.JFK.1960 or 617.514.1600. Website: https://www.jfklibrary.org/.

(6) Lyndon Baines Johnson Library and Museum. Location: 2313 Red River Street; Austin, TX 78705-5702. Email address: johnson.library@nara.gov. Phone number: 512.721.0200. Website: http://www.lbjlibrary.org/.

(7) Richard Nixon Library and Museum. Location: 18001 Yorba Linda Boulevard; Yorba Linda, CA 92886-3903. Phone number: 714.983.9120. Email address: nixon@nara.gov. Website: https://www.nixonlibrary.gov/index.php.

(8) Gerald R. Ford Library and Museum. (i) Library: Location: 1000 Beal Avenue; Ann Arbor, MI 48109-2114. Email address: ford.library@nara.gov. Phone number: 734.205.0555.

(ii) Museum: Location: 303 Pearl Street NW; Grand Rapids, MI 49504-5353. Email address: ford.museum@nara.gov. Phone number: 616.254.0400.

(iii) Website for both library and museum: https://www.fordlibrarymuseum.gov.

(9) Jimmy Carter Library and Museum. Location: 441 Freedom Parkway; Atlanta, GA 30307-1498. Email address: carter.library@nara.gov. Phone number: 404.865.7100. Website: https://jimmycarterlibrary.gov/.

(10) Ronald Reagan Library and Museum. Location: 40 Presidential Drive; Simi Valley, CA 93065-0699. Email address: reagan.library@nara.gov. Phone number: 800.410.8354 or 805.577.4000. Website: https://www.reaganlibrary.gov/.

(11) George Bush Library and Museum. Location: 1000 George Bush Drive West; College Station, TX 77845. Email address: bush.library@nara.gov. Phone number: 979.691.4000. Website: https://www.bush41.org/.

(12) William J. Clinton Library and Museum. Location: 1200 President Clinton Avenue; Little Rock, AR 72201. Email address: clinton.library@nara.gov. Phone number: 501.374.4242. Website: https://www.clintonlibrary.gov/.

(13) George W. Bush Library and Museum. Location: 2943 SMU Boulevard; Dallas, TX 75205. Email address: gwbush.library@nara.gov. Phone number: 214.346.1650. Website: https://georgewbushlibrary.smu.edu/.

(14) Barack Obama Library. Location: 2500 W Golf Road; Hoffman Estates, IL 60169-1114. Email address: obama.library@nara.gov. Phone number: 847.252.5700. Website: https://www.obamalibrary.gov/.

§ 1253.4 Federal records centers (FRCs).

The FRCs are storage facilities and do not operate public research rooms or have public hours. Contact information for each Federal records center is online at https://www.archives.gov/locations#frc and:

(a) Atlanta Federal Records Center. Address: 4712 Southpark Boulevard; Ellenwood, GA 30294. Phone number: 404.736.2820.

(b) Boston Federal Records Center. Address: Frederick C. Murphy Federal Center; 380 Trapelo Road; Waltham, MA 02452-6399. Phone number: 781.663.0130.

(c) Chicago Federal Records Center. Address: 7358 South Pulaski Road; Chicago, IL 60629-5898. Phone number: 773.948.9000.

(d) Dayton Federal Records Center. Address: 3150 Springboro Road; Moraine, OH 45439. Phone number: 937.425.0600.

(e) Denver Federal Records Center. Address: 17101 Huron Street; Broomfield, CO 80023-8909. Phone number: 303.604.4760.

(f) Fort Worth Federal Records Center. Address: 1400 John Burgess Drive; Fort Worth, TX 76140. Phone number: 817.551.2000.

(g) Kansas City Federal Records Center. Address: 8600 NE Underground Drive; Pillar 300-G; Kansas City, MO 64161. Phone number: 816.994.1700.

(h) Kingsridge Federal Records Center. Address: 8801 Kingsridge Drive; Miamisburg, OH 45458. Phone number: 937.425.0690.

(i) Lee's Summit Federal Records Center. Address: 200 Space Center Drive; Lee's Summit, MO 64064-1182. Phone number: 816.268.8100.

(j) Lenexa Federal Records Center. Address: 17501 W 98th Street; Lenexa, KS 66219. Phone number: 913.563.7600.

(k) National Personnel Records Center—Military Personnel Records. Address: 1 Archives Drive; St Louis, MO 63138. Phone number: 314.801.0582.

(l) National Personnel Records Center—Civilian Personnel Records. Address: 1411 Boulder Boulevard; Valmeyer, IL 62295. Phone number: 618.935.3005.

(m) Philadelphia Federal Records Center. Address: 14700 Townsend Road; Philadelphia, PA 19154-1096. Phone number: 215.305.2000.

(n) Pittsfield Federal Records Center. Address: 10 Conte Drive; Pittsfield, MA 01201-8230. Phone number: 413.236.3609.

(o) Riverside Federal Records Center. Address: 23123 Cajalco Road; Perris, CA 92570-7298. Phone number: 951.956.2000.

(p) San Bruno Federal Records Center. Address: Leo J. Ryan Building; 1000 Commodore Drive; San Bruno, CA 94066-2350. Phone number: 650.238.3500.

(q) Seattle Federal Records Center. Address: 6125 Sand Point Way, NE; Seattle, WA 98115-7999. Phone number: 206.336.5115.

(r) Washington National Records Center. Address: 4205 Suitland Road; Suitland, MD 20746-8001. Phone number: 301.778.1600.

§ 1253.5 Archival research rooms and facilities outside Washington, DC.

NARA's research rooms outside Washington, DC, are closed on all Federal holidays. Hours and contact information for each NARA archival research room are online at https://www.archives.gov/locations#research-facilities and contact information is as follows:

(a) The National Archives at Atlanta. Address: 5780 Jonesboro Road; Morrow, GA 30260. Email address: atlanta.archives@nara.gov. Phone number: 770.968.2100.

(b) The National Archives at Boston. Address: Frederick C. Murphy Federal Center; 380 Trapelo Road; Waltham, MA 02452-6399. Email address: boston.archives@nara.gov. Phone number: 781.663.0144 or toll-free 866.406.2379.

(c) The National Archives at Chicago. Address: 7358 South Pulaski Road; Chicago, IL 60629-5898. Email address: chicago.archives@nara.gov. Phone number: 773.948.9001.

(d) The National Archives at Denver. Address: 17101 Huron Street; Broomfield, CO 80023-8909. Email address: denver.archives@nara.gov. Phone number: 303.604.4740.

(e) The National Archives at Fort Worth. Address: 1400 John Burgess Drive; Fort Worth, TX 76140. Email address: ftworth.archives@nara.gov. Phone number: 817.551.2051.

(f) The National Archives at Kansas City. Address: 400 West Pershing Road; Kansas City, MO 64108. Email address: kansascity.archives@nara.gov. Phone number: 816-268-8000.

(g) The National Archives at New York City. Address: Alexander Hamilton U.S. Customs House; 1 Bowling Green, Room 328; New York, NY 10004-1415. Email: newyork.archives@nara.gov. Phone number: 212.401.1620.

(h) The National Archives at Philadelphia. Address: 14700 Townsend Road; Philadelphia, PA 19154-1096. Email: philadelphia.archives@nara.gov. Phone number: 215.305.2044.

(i) The National Archives at Riverside. Address: 23123 Cajalco Road; Perris, CA 92570-7298. Email: riverside.archives@nara.gov. Phone number: 951.956.2000.

(j) The National Archives at San Francisco. Address: Leo J. Ryan Memorial Federal Building; 1000 Commodore Drive; San Bruno, CA 94066-2350. Email: sanbruno.archives@nara.gov. Phone number: 650.238.3501.

(k) The National Archives at Seattle. Address: 6125 Sand Point Way, NE; Seattle, WA 98115-7999. Email address: seattle.archives@nara.gov. Phone number: 206.336.5115.

(l) The National Archives at St. Louis. Address: 1 Archives Drive; St. Louis, MO 63138. Email address: stl.archives@nara.gov. Phone number: 314.801.0850.

§ 1253.6 Office of the Federal Register.

Contact information and business hours for the Office of the Federal Register are online at https://www.archives.gov/federal-register/contact.htm and codified in 1 CFR 2.3.

§ 1253.7 Office of Government Information Services.

The Office of Government Information Services' (OGIS) contact information and business hours are online at https://www.archives.gov/ogis.

§ 1253.8 The Center for Legislative Archives.

The Center for Legislative Archives' contact information and business hours are online at https://www.archives.gov/legislative.

§ 1253.9 Notification process for changes in hours.

(a) We follow the notification procedure in this section when proposing to change public operating hours for research rooms, exhibit areas, and museums.

(b) Proposed changes to operating hours for research rooms, exhibit areas, and museums must have a documented business need for the change.

(c) We notify people of the change in operating hours by:

(1) Posting a notice on http://www.archives.gov;

(2) Posting notices in areas visible to the public in the affected research room, exhibit areas, or museum;

(3) Issuing a press release, email notification, or other means normally used by that unit to notify the public of events at their location; and

(4) Including justification for the change in hours in these notices.

(d) In the event that research rooms, exhibit areas, or museums must make an emergency change to operating hours for reasons including, but not limited to, inclement weather, we will provide as much advance notice to the public as possible. We will post emergency notifications online at http://www.archives.gov.

2. Revise part 1280 to read as follows:

PART 1280—USE OF NARA FACILITIES

Sec.
Subpart A—Rules of Conduct on or in NARA Property and Facilities
General Information
1280.1 NARA facilities and applicable rules of conduct.
1280.2 Items subject to inspection.
1280.4 Children under the age of 14.
1280.6 Service animals.
1280.8 Driving on NARA property.
1280.12 Additional rules.
Prohibited Activities
1280.14 Weapons and explosives.
1280.16 Illegal drugs and alcohol.
1280.18 Gambling.
1280.20 Smoking or using alternative smoking devices.
1280.22 Distributing or posting materials.
1280.24 Eating and drinking.
1280.26 Soliciting, vending, and debt collecting.
1280.28 Other prohibited behavior.
1280.30 Types of corrective action for prohibited behavior.
1280.32 Appealing a ban from NARA facilities or property.
Subpart B—Rules for Filming, Photographing, or Videotaping on NARA Property or in NARA Facilities
1280.40 Definitions.
1280.42 When the rules in this subpart apply.
1280.44 Filming, photographing, or videotaping for commercial purposes.
1280.46 Filming, photographing, or videotaping for personal use.
1280.48 Applying to film, photograph, or videotape for news purposes.
1280.50 What you may film, photograph, or videotape for news purposes.
1280.52 Rules for filming, photographing, or videotaping for news purposes.
Subpart C—Additional Rules for Using Public Areas of NARA Property or Facilities
1280.60 Permitting use of public areas.
1280.62 General rules when using public areas.
1280.64 Requesting to use our public areas.
1280.66 How we handle requests to use public areas.
1280.68 Fees for using public areas.
1280.70 Additional rules that apply to approved events.
Subpart D—Additional Information for Using Specific NARA Property or Facilities
1280.80 Public areas in the National Archives Building available for events.
1280.82 When public areas in the National Archives Building are available.
1280.84 Using the Rotunda.
1280.86 National Archives at College Park space available for events.
1280.88 When public areas in the National Archives at College Park are available.

Authority: 44 U.S.C. 2102 notes, 2104(a), 2112, 2903.

Subpart A—Rules of Conduct on or in NARA Property and Facilities

General Information

§ 1280.1 NARA facilities and applicable rules of conduct.

(a) NARA facilities. Some NARA facilities are located on property the United States owns or that is otherwise under the control of the Archivist of the United States (“NARA property”), other facilities are leased by NARA directly using authority delegated by the General Services Administration (GSA), and still others are located on property owned, leased by, or otherwise under GSA's control (“GSA property”), or owned and under the control of the Government Publishing Office (“GPO property”).

(b) NARA property. You must comply with the rules in this part when you are on NARA property or using facilities located on NARA property.

(1) The National Archives Building. The National Archives Building in Washington, DC, is NARA property and NARA's control includes:

(i) The Pennsylvania Avenue NW, entrance between 7th and 9th Streets, including the area within the retaining walls on either side of the entrance, inclusive of the statues, and the steps and ramps leading up to the entrance of the building;

(ii) On the 7th Street, 9th Street, and Constitution Avenue NW, sides of the building, all property between the National Archives Building and the curb line of the street, including the sidewalks, the statues facing Constitution Avenue, and the other grounds; the steps leading up from the Constitution Avenue sidewalk and the portico at the top of those steps; the general public's entrance to the National Archives Museum on Constitution Avenue (closer to 9th Street); and the Special Events entrance to the National Archives Museum on Constitution Avenue (closer to 7th Street).

(iii) The National Park Service controls the areas on the Pennsylvania Avenue side of the National Archives Building that are not NARA property.

(2) Other NARA facilities. The following NARA facilities are also located on NARA property: The National Archives at College Park, in College Park, MD; the Presidential libraries and museums listed in 36 CFR 1253.3; and the National Archives at Atlanta in Morrow, Georgia, listed in 36 CFR 1253.5(a).

(3) Leased NARA facilities. The following NARA facilities are located on private property leased by NARA: The Atlanta Federal Records Center in Ellenwood, GA; the National Archives at Riverside and the Riverside Federal Records Center at Perris, CA; the National Archives at Fort Worth and the Fort Worth Federal Records Center at Fort Worth, TX; and the National Personnel Records Center—Civilian Personnel Records in Valmeyer, IL. These Federal records centers are listed in 36 CFR 1253.4 and archival facilities are listed in 36 CFR 1253.5.

(c) GSA property. (1) The following NARA facilities are located on GSA property: All Federal records centers listed at 36 CFR 1253.4, except the Federal records centers listed in 36 CFR 1280.1(b)(3), and all archival research rooms and facilities listed at 36 CFR 1253.5, except the National Archives at Atlanta and the archival facilities listed in 36 CFR 1280.1(b)(3).

(2) You must comply with the following rules when you are on or using Federal records center or archival research rooms and facilities located on GSA property and those facilities listed in 36 CFR 1280.1(b)(3):

(i) GSA's regulations, 41 CFR part 102-74, subpart C, Conduct on Federal Property, and subpart D, Occasional Use of Federal Buildings (if you are interested in using the public areas in a facility for an event); and

(ii) NARA's regulations outlined in this part 1280. If a provision in this part conflicts with a GSA provision, comply with the GSA provision when on or using NARA facilities located on GSA property.

(d) GPO property. (1) The following NARA facilities are located on GPO property: The Office of the Federal Register (OFR), the Office of Government Information Services (OGIS), and the Center for Legislative Archives.

(2) In addition to NARA rules outlined in this part 1280, you must comply with GPO's rules for the use of its property when you are on or using NARA facilities located on GPO property (currently GPO Directive 825.38A, Rules and Regulations Governing Buildings and Grounds). If a provision in this part 1280 conflicts with a GPO provision, comply with the GPO provision when on or using NARA facilities on GPO property.

(e) NARA research room rules. If you are using records in a NARA research room in any NARA facility, you must also comply with the rules in 36 CFR part 1254. If you violate a rule or regulation in 36 CFR part 1254, you are subject to the types of corrective action set forth in that part, including revocation of research privileges.

(f) Violations. If you violate a rule or regulation in this part you are subject to, among other types of corrective action, removal and banning from the facility.

(g) Closures. The Archivist of the United States reserves the right to close NARA facilities, including those located on GSA and GPO property, at any time for security reasons, special events, or other NARA business needs.

§ 1280.2 Items subject to inspection.

We may, at our discretion, inspect packages, briefcases, and other containers in the immediate possession of employees, contractors, and other people arriving on, working at, visiting, or departing from NARA property and facilities. 41 CFR 102-74, subpart C, authorizes GSA to conduct similar inspections at NARA facilities on GSA property. These inspection authorities are in addition to NARA's research room rules (see 36 CFR part 1254 and 36 CFR 1280.1(e)).

§ 1280.4 Children under the age of 14.

We admit children under the age of 14 to NARA facilities only if they are accompanied by an adult who will supervise them at all times. The director of a NARA facility may authorize a lower age limit for unaccompanied children to meet special circumstances (e.g., students who have been given permission to conduct research without adult supervision).

§ 1280.6 Service animals.

We allow service animals on or in NARA property and facilities in any area that the individual handling the service animal is otherwise entitled to enter. A service animal is any dog individually trained to do work or perform tasks for the benefit of an individual with a disability. You may not bring any other animals onto or into NARA property and facilities, except for official purposes.

§ 1280.8 Driving on NARA property.

When driving on NARA property, you must obey speed limits, posted signs, and other traffic laws, and park only in designated spaces. We reserve the right to tow, at the owner's expense, any vehicle that is parked illegally. If you must leave your vehicle illegally parked due to an emergency, you must notify the facility security guards as soon as possible. We may, at our discretion, deny any vehicle access to NARA property for public safety or security reasons.

§ 1280.12 Additional rules.

(a) All facilities. NARA facilities and property may have additional posted rules that you must comply with. In addition, you must, at all times while in a NARA facility or on NARA property, comply with official signs and with the directions of the guards and NARA staff.

(b) Presidential libraries. You may be required to check all of your parcels and luggage in areas designated by library staff when visiting the museums or the Presidential libraries.

(c) GSA and GPO property. Visitors to NARA facilities that are located on GSA or GPO property must check for and follow the rules that apply to the facility they visit, as GSA and GPO may have additional or different rules from the rules in this Part.

(d) NARA official shuttle bus. People conducting research at or visiting the National Archives Building or the National Archives at College Park may use NARA's official shuttle to travel between these buildings, if space is available.

Prohibited Activities

§ 1280.14 Weapons and explosives.

(a) Federal law prohibits individuals to possess firearms or other dangerous weapons in Federal facilities unless the person is specifically authorized to possess such a weapon under 18 U.S.C. 930. State-issued carry permits are not valid in Federal facilities. Violators are subject to fine and/or imprisonment for a period up to five years.

(b) You are also prohibited from bringing or possessing explosives, or items intended for use in fabricating an explosive or incendiary device, either openly or concealed, on or in NARA property and facilities.

§ 1280.16 Illegal drugs and alcohol.

(a) Except in cases where you are using the drug as prescribed for you as a patient by a licensed physician, all people entering in or on NARA facilities or property are prohibited from:

(1) Being under the influence, using or possessing any narcotic drugs, hallucinogens, marijuana, barbiturates, or amphetamines; or

(2) Operating a motor vehicle on the property while under the influence of alcoholic beverages, narcotic drugs, hallucinogens, marijuana, barbiturates, or amphetamines.

(b) Except where the Archivist of the United States or his/her designee grants an exemption in writing for the appropriate official use of alcoholic beverages, all people entering in or on NARA property or facilities are prohibited from being under the influence of or using alcoholic beverages.

§ 1280.18 Gambling.

(a) You may not participate in any type of gambling while on or in NARA property or facilities. This includes:

(1) Participating in games for money or other personal property;

(2) Operating gambling devices;

(3) Conducting a lottery or pool; or

(4) Selling or purchasing numbers tickets.

(b) This rule does not apply to licensed blind operators of vending facilities who are selling chances for any lottery set forth in a state law and conducted by an agency of a state as authorized by section 2(a)(5) of the Randolph-Sheppard Act (20 U.S.C. 107, et seq.)

§ 1280.20 Smoking or using alternative smoking devices.

You may not smoke or use alternative smoking devices (electronic or vapor) inside any NARA facility (including those located on GSA or GPO property), in courtyards on NARA property, or in any outdoor area within 25 feet of any NARA facility air intake duct or doorway. Due to dangers that smoking and smoking devices present to the safety of occupants and the security of archival holdings, we have a zero-tolerance policy. You may smoke and use alternative smoking devices only in marked smoking areas outside certain NARA facilities.

§ 1280.22 Distributing or posting materials.

You may not distribute or post handbills, fliers, pamphlets, or other materials on or in NARA property and facilities, except in spaces we designate for that purpose. This prohibition does not apply to displays or notices the Government distributes as part of authorized activities or bulletin boards employees use to post personal notices.

§ 1280.24 Eating and drinking.

You may eat and drink inside NARA facilities only in designated areas. You may not eat or drink in any research rooms, records storage areas, or museum areas unless specifically authorized by the Archivist or designee. Facility directors may, by local rule, prohibit eating and drinking in designated outdoor areas of NARA facilities or NARA property, as well (e.g., near artifacts that are on display outdoors).

§ 1280.26 Soliciting, vending, and debt collecting.

(a) On NARA property or in NARA facilities, you may not:

(1) Solicit for personal, charitable, or commercial causes;

(2) Sell any products;

(3) Display or distribute commercial advertising; or

(4) Collect private debts.

(b) The following activities are exceptions to the prohibitions in subsection (a):

(1) Participating in national or local drives for welfare, health, or other funds that the Office of Personnel Management authorizes or that NARA approves (e.g., the Combined Federal Campaign);

(2) Employees collecting non-monetary items such as food, clothing, or toys, as approved by the Archivist or his/her designee;

(3) Authorized employee organizations, including employee affinity groups, soliciting for membership dues or other organizational support, as approved by the Archivist or his/her designee; and

(4) Authorized charitable support organizations, like the National Archives Foundation or a Presidential library foundation (e.g., the museum store at the National Archives Building), conducting revenue-producing activities.

§ 1280.28 Other prohibited behavior.

We reserve the right to remove anyone from NARA facilities or property who is:

(a) Stealing NARA property;

(b) Willfully damaging or destroying NARA property;

(c) Creating any hazard to people or things;

(d) Throwing anything from or at a NARA building; or climbing on statues, fountains, gravesites, artwork, or other items on display in outdoor areas, or any part of a NARA building;

(e) Improperly disposing of rubbish;

(f) Acting in a disorderly fashion;

(g) Acting in a manner that creates a loud or unusual noise or a nuisance;

(h) Acting in a manner that unreasonably obstructs the usual use of NARA facilities or property;

(i) Acting in a manner that otherwise impedes or disrupts performance of official duties by Government and contract employees;

(j) Acting in a manner that prevents the general public from obtaining NARA-provided services in a timely manner;

(k) Loitering; or

(l) Threatening directly (e.g., in-person communications or physical gestures) or indirectly (e.g., via regular mail, email, or phone) any NARA employee, visitor, volunteer, contractor, other building occupants, facility, or property.

§ 1280.30 Types of corrective action for prohibited behavior.

(a) Individuals who violate the provisions of this part are subject to:

(1) Being removed from the property or facility (for up to seven calendar days) and possible law enforcement notification;

(2) Being banned from NARA property or facilities;

(3) Arrest for trespass; and

(4) Any other corrective action a law or regulation prescribes.

(b) The Executive for Research Services, the Executive for Legislative Archives, Presidential Libraries, and Museum Services, the Executive for Agency Services, or the Director of the Security Management Division, may have the individual immediately removed and temporarily denied further access to the property or facility for up to seven calendar days.

(c) During this removal period, the Executive for Business Support Services renders a decision on whether the person should be banned from the specific facility from which they were removed, or all NARA property or facilities, for either a specific period of time or permanently. If the Executive decides to ban the person, they will issue a written decision and notify the affected NARA properties or facilities.

(d) Banning under this part includes automatic revocation of research privileges, notwithstanding the time periods set forth in 36 CFR 1254. Research privileges remain revoked until the ban is lifted, at which time the person who was banned may submit an application for new privileges.

§ 1280.32 Appealing a ban from NARA facilities or property.

(a) Within 30 calendar days after you receive notice that you have been banned from a NARA facility or property, you may appeal the decision in writing by mail to the Deputy Archivist of the United States (address: National Archives and Records Administration (ND); 8601 Adelphi Road; College Park, MD 20740-6001). In the request, you must state the reasons for the appeal.

(b) The Deputy Archivist has 30 calendar days after receiving the appeal to make a decision to rescind, modify, or uphold the ban, and will notify you of the decision in writing.

(c) If the Deputy Archivist upholds the ban, we will not consider another appeal from you within one year from the date of your last request for reconsideration. After one year has passed, you may submit another appeal and the same process will apply.

Subpart B—Rules for Filming, Photographing, or Videotaping on NARA Property or in NARA Facilities

§ 1280.40 Definitions.

(a) Filming, photographing, or videotaping for commercial purposes. Any filming, photographing, or videotaping to promote commercial enterprises or commodities.

(b) News filming, photographing, or videotaping. Any filming, photographing, or videotaping done by a commercial or non-profit news organization that is intended for use in a television or radio news broadcast, newspaper, or periodical.

(c) Personal use filming, photographing, or videotaping. Any filming, photographing, or videotaping intended solely for personal or non-commercial educational use that will not be commercially distributed.

§ 1280.42 When the rules in this subpart apply.

(a) These rules apply to anyone who is filming, photographing, or videotaping inside any NARA facility or while on NARA property.

(b) Filming, photographing, and videotaping on the grounds of any NARA archival research room except the ones in Atlanta, GA, Fort Worth, TX, and Perris (Riverside), CA, or on the grounds surrounding the Washington National Records Center, are governed by GSA regulations, 41 CFR part 101-20, Management of Buildings and Grounds, and must be approved by a GSA official.

§ 1280.44 Filming, photographing, or videotaping for commercial purposes.

You are not permitted to film, photograph, or videotape for commercial purposes on NARA property or in NARA facilities.

§ 1280.46 Filming, photographing, or videotaping for personal use.

(a) You may film, photograph, or videotape on NARA property outside a NARA facility so long as you do not impede vehicular or pedestrian traffic.

(b) You may film, photograph, or videotape inside a NARA facility during regular business hours in public areas, including research rooms and exhibition areas, under the following conditions:

(1) You may not use a flash or other supplemental lighting; and

(2) You may not use a tripod or similar equipment.

(c) However, you may not film, photograph, or videotape in any of the exhibit areas of the National Archives Building in Washington, DC, including the Rotunda where the Declaration of Independence, the Constitution, and the Bill of Rights are displayed.

§ 1280.48 Applying to film, photograph, or videotape for news purposes.

(a) If you wish to film, photograph, or videotape for news purposes at the National Archives Building (as delineated in § 1280.2(a)), the National Archives at College Park, or the Washington National Records Center, you must request permission from the NARA Public Affairs Officer by email at public.affairs@nara.gov, by phone at 202.357.5300, or by mail at National Archives and Records Administration; 700 Pennsylvania Avenue NW; Public Affairs Office; Washington, DC 20408-0001. See also § 1280.42(b) for additional permissions relating to the Washington National Records Center.

(b) If you wish to film, photograph, or videotape for news purposes at a Presidential library or at an archival research room facility, you must contact the director of the library (see 36 CFR 1253.3 for contact information) or archival research room facility (see 36 CFR 1253.5 for contact information) to request permission.

(c) Your request for permission to film, photograph, or videotape for news purposes must contain the following information (OMB control number 3095-0040):

(1) The name of the organization you are working for;

(2) Areas you wish to film, photograph, or videotape;

(3) Documents, if any, you wish to film;

(4) The purpose of the project you are working on;

(5) What you intend to do with the film, photograph, or videotape; and

(6) How long you will need to complete your work on or in NARA property or facilities.

(d) You must request permission at least two weeks in advance of your desired filming date. If you make a request within a shorter time period, we may not be able to accommodate your request.

(e) If you would like to use NARA equipment, you must also sign an agreement, NA Form 11010, Waiver of Liability (OMB control number 3095-0040).

(f) This section does not apply to you if you have permission to use your own microfilming equipment to film archival records and donated historical materials under the provisions of 36 CFR 1254.90-1254.110. You must follow the procedures in 36 CFR part 1254 for permission to film archival records and donated materials for research purposes or for microfilm publications.

§ 1280.50 What you may film, photograph, or videotape for news purposes.

(a) We will permit you to film, photograph, or videotape sections of the interior or exterior of any NARA facility or property only for stories about:

(1) NARA programs;

(2) NARA exhibits;

(3) NARA holdings;

(4) NARA services;

(5) A former President;

(6) A researcher who has made or is making use of NARA holdings (provided that the researcher also approves your request); or

(7) Any other NARA-related activity approved by the appropriate NARA representative.

(b) We reserve the right to reject any request that does not meet the criteria set forth in paragraphs (a) and (c) of this section or because of scheduling or staffing constraints.

(c) We will not grant you permission to film, photograph, or videotape if you intend to use the film, photographs, or videotape for commercial, partisan political, sectarian, or similar activities.

§ 1280.52 Rules for filming, photographing, or videotaping for news purposes.

The following conditions and restrictions apply to anyone that has been granted permission to film, photograph, or videotape for news purposes under subpart B of this part:

(a) We may limit or prohibit use of artificial light in connection with filming, photographing, or videotaping documents for news purposes. You may not use any supplemental lighting devices while filming, photographing, or videotaping inside a NARA facility in the Washington, DC, area without the prior permission of the NARA Public Affairs Officer. If the Public Affairs Officer approves your use of artificial lighting in the Rotunda or other exhibit areas, we will use facsimiles in place of the Declaration of Independence, the Constitution, the Bill of Rights, or other documents. If we approve your use of high intensity lighting, we will cover or replace with facsimiles all other exhibited documents that fall within the boundaries of such illumination. You may not use any supplemental lighting devices at the Presidential libraries and the archival research room facilities without permission from a NARA representative at that facility.

(b) While filming, photographing, or videotaping, you are liable for injuries to people or property that result from your activities on or in NARA property and facilities.

(c) At all times while on or in NARA property and facilities, you must conduct your activities in accordance with all applicable regulations contained in this part.

(d) Your filming, photographing, or videotaping activity may not impede people who are entering or exiting any NARA facility unless otherwise authorized by the facility's director, or by the NARA Public Affairs Officer for Washington, DC, area facilities.

(e) You must be accompanied by a NARA staff member when filming, photographing, or videotaping the interior of any NARA facility.

(f) We will approve your request to do press interviews of NARA personnel on or in NARA property and facilities only when such employees are being interviewed in connection with official business. Interviews with staff and researchers may take place only in areas designated by the NARA Public Affairs Officer for Washington, DC, area facilities, or by the appropriate NARA representative at other NARA facilities.

(g) You may film and photograph documents only in those areas which the NARA Public Affairs staff designates in the National Archives Building, the National Archives at College Park, or the Washington National Records Center, or in those areas designated as appropriate by the staff liaison at other NARA facilities.

(h) We will limit your film and photography sessions to two hours.

(i) You may not state or imply that NARA approves of or will sponsor:

(1) Your activities or views; or

(2) The uses to which you put images depicting any NARA facility.

Subpart C—Additional Rules for Using Public Areas of NARA Property or Facilities

§ 1280.60 Permitting use of public areas.

(a) The primary use for NARA property and facilities, including those areas open to the public, is conducting official NARA business. NARA's official business includes educational and public programs and other activities we conduct on our own or in conjunction with government organizations, the National Archives Foundation (“Foundation”) and Presidential library foundations, or other private organizations. NARA uses all of the public areas of NARA property and facilities in the course of conducting official business.

(b) We may permit, under the conditions described in this subpart, Federal agencies, quasi-Federal agencies, and state, local, and tribal government organizations to occasionally use certain public areas for official activities (“government organization use”).

(c) We may also permit occasional, non-official use of specified public areas for private group activities and events that relate to or further NARA's archival, records, or other interests. The authorities for such use are 44 U.S.C. 2112(e) (for Presidential libraries) and 44 U.S.C. 2903(b) (for other NARA property and facilities).

(1) Examples of private use that relate to or further NARA's archival, records, or other interests include, but are not limited to: Meetings and other business activities held by archival, historical, or other professional organizations with a connection to NARA's holdings or mission; activities or events that promote research in, or use or preservation of, NARA holdings; invitation-only screening of film or TV premieres when NARA holdings have been used in the production or when the screening otherwise promotes use of NARA holdings (e.g., documentary film premiere); and dinners, receptions, or other private group events where the connection to NARA is the location itself (e.g., The National Archives Building or a Presidential library) or the opportunity to view NARA exhibits. Private group events may include events of a personal or social nature, such as weddings and wedding receptions, and school-sponsored activities.

(2) Each NARA facility with public use space determines whether and what kind of events of a personal nature the facility can support, given the size and configuration of available space, staff availability, and other logistical factors. We also reserve the right to limit the number and size of personal celebrations, and to limit or prohibit activities as part of a private group event that pose a risk to the facility, property, people, or our holdings. If you are interested in holding a private group event at a NARA facility, contact that facility directly for more information. See 36 CFR part 1253 for facility listings and contact information.

(3) We may charge fees for private group and government organization use of these public areas and the services related to such use. See § 1280.68. NARA, the Foundation, or Presidential library foundations may collect the fees.

§ 1280.62 General rules when using public areas.

In addition to the rules listed in subparts A and B of this part, the following rules apply to all government organization and private group use of NARA public areas:

(a) You may not characterize your use of NARA property or facilities as an endorsement by NARA of your organization or its activities, or otherwise suggest an official relationship between NARA and your organization if such a relationship does not exist.

(b) You may not charge or collect admission fees, or money for other purposes, at the event.

(c) You may not use NARA property, facilities, or permission to use a NARA property or facility for any activities that involve:

(1) Profit-making;

(2) Advertising, promoting, or selling commercial enterprises, products, or services;

(3) Partisan political activities;

(4) Sectarian or other similar activities; or

(5) Any use inconsistent with those authorized in this section.

(d) You may not use NARA property or facilities if you or your organization or group engage in discriminatory practices proscribed by the Civil Rights Act of 1964, as amended.

(e) You may not misrepresent your identity to the public or conduct any activities in a misleading or fraudulent manner.

(f) You must ensure that no Government property is destroyed, displaced, or damaged during your use of NARA public areas. You must take prompt action to replace, return, restore, repair, or repay NARA for any damage caused to Government property during your use of NARA facilities or property, and the facility director may charge additional fees to recoup the cost of any damage that occurs due to your use of the property or facility.

§ 1280.64 Requesting to use our public areas.

(a) This section provides a general description of the process that different NARA facilities use to review and respond to requests to use their public areas. You should contact a facility before submitting a formal request, to check on availability and to obtain any forms, procedures, or rules that are specific to that facility.

(b) National Archives Building and the National Archives at College Park. (1) If you are interested in hosting an official governmental event or meeting at the National Archives Building, you should contact NARA Special Events by phone at 202.357.5164 or by email at specialevents@nara.gov. If you are interested in hosting a private group event at the National Archives Building, you should contact the National Archives Foundation by phone at 202.357.5404, toll-free at 844.723.2155, or by email at events@archivesfoundation.org. Additional information is in subpart D of this part and online at https://www.archives.gov/dc/host-an-event.

(2) If you are interested in hosting an event or meeting at the National Archives at College Park, you should contact NARA Special Events by phone at 301.837.1504 or by email at specialeventsa2@nara.gov. Additional information is in subpart D of this part.

(3) You will need to submit a written request at least 30 calendar days before the proposed date of your event. Your request will need to include such information as the name of your group and any other organization that is participating, point-of-contact information, the date and time you are requesting, number of attendees, type of event, description of the event, other arrangements you would like to include, and other information about the event to enable us to determine whether we can accommodate it. We may also request additional information. OMB control number 3095-0043 covers this information collection.

(c) Presidential libraries and museums. (1) You should contact the Presidential library and museum where you wish to hold your event (see contact information in 36 CFR 1253.3).

(2) Depending on what kind of event you want to host, you may be referred to the foundation that supports the library to make the event arrangements and to pay any event fees and costs that apply. Some Presidential libraries are located at shared-use facilities where their library foundations own certain areas and spaces used for private group events and operate those areas and spaces under their rules rather than the rules in this part 1280.

(3) For events held in Presidential library areas or spaces that are considered NARA property, you will need to submit a written, signed request to the library you wish to use (see 36 CFR 1253.3 for the address) and complete NA Form 16011, Application for Use of Space in Presidential Libraries. OMB control number 3095-0024 covers this information collection.

(d) Archival research facilities and Federal records centers (FRCs). (1) Most archival research facilities and the FRCs do not have any public use areas or spaces.

(2) If you wish to request use of public areas at an archival research facility, you must submit a written, signed request to the director of the facility you wish to use (see 36 CFR 1253.5 for a list of addresses) at least 30 days before the proposed date of your event. GSA's rules for requesting use of the facility will also apply if the facility is located on GSA property (see 41 CFR part 102-74, subpart D, Occasional Use of Public Buildings).

(3) Your request will need to include such information as the name of your group and any other organization that is participating, point-of-contact information, the date and time you are requesting, number of attendees, type of event, description of the event, and other information about the event to enable us to determine whether we can accommodate it. We may also request additional information. OMB control number 3095-0043 covers this information collection.

(e) NARA facilities located on GPO property. None of the NARA facilities that are located on GPO property have spaces available for public use.

§ 1280.66 How we handle requests to use public areas.

(a) When you ask to use NARA property, we review your request to:

(1) Ensure that it meets all of the provisions in this subpart and subpart D of this part;

(2) Determine if the public area you have requested is available on the date and time you have requested;

(3) Evaluate whether the requested space can accommodate your proposed use; and

(4) Determine the fees and costs we will charge for the event.

(b) When we have completed this review, we will notify you of the decision. We may ask for additional information before deciding whether or not to approve your event.

(c) We reserve the right to review, reject, or require changes in any material, activity, or caterer you intend to use for the event.

§ 1280.68 Fees for using public areas.

(a) We are authorized to charge fees for occasional, non-official use of NARA public areas, as well as for services related to such use, including additional cleaning, security, and other staff services. We will either exercise this authority directly, or through the Foundation or an authorized Presidential library foundation or support organization.

(b) Federal and quasi-Federal agencies, and state, local, and tribal governmental institutions using public space for official government functions pay fees for the costs of room rental, administrative fees, additional cleaning, security, and other staff services NARA provides.

(c) You will be informed in advance and in writing of the total estimated cost associated with using the public area of interest. If we collect the fees directly, you will pay the National Archives Trust Fund. If the Foundation collects the fees, you will pay the National Archives Foundation. If a Presidential library foundation collects the fees, they will inform you where to submit the payment.

§ 1280.70 Additional rules that apply to approved events.

(a) Once we approve your event, you must provide any support people you need to register guests, distribute approved literature, name tags, and other material.

(b) We must approve in advance any item that you plan to distribute or display during your use of NARA property or facilities, or any notice or advertisement that refers, directly or indirectly, to NARA, the Foundation, a Presidential foundation or supporting organization, or the National Archives Trust Fund, or incorporates any of NARA's logos or seals (see 36 CFR 1200.2).

(c) We must approve in advance any vendor or caterer who will work in NARA facilities. You must comply with all NARA requirements for the use of food and drink at your event.

(d) You may not allow or consume food or drink in areas where original records or historical materials are displayed.

Subpart D—Additional Information for Using Specific NARA Property or Facilities

§ 1280.80 Public areas in the National Archives Building available for events.

You may ask to use the following areas in the National Archives Building, Washington, DC:

Table 1 to § 1280.80
Area | Capacity
Rotunda Galleries | 250 people.
William G. McGowan Theater | 290 people.
Archivist's Reception Room | 125 people.
Presidential Conference Rooms | 20 to 70 people.

§ 1280.82 When public areas in the National Archives Building are available.

(a) Most public areas are available for set-up and use each day from 6 p.m. until 10:30 p.m. The areas are not available for private events on Federal holidays. A NARA representative must be present at all times when non-NARA groups use NARA spaces.

(b) Some public areas in the National Archives Building may be available for private events or government organization use only before or after the building closes to the public, while other public areas may be available for such use during normal business hours, subject to NARA's official business needs.

§ 1280.84 Using the Rotunda.

(a) We do not allow private group event activities (e.g., dinner/reception, program) to be held in the Rotunda or the exhibit galleries in the National Archives Museum. We may, at our discretion, allow attendees at private group events to enter the Rotunda and other Museum areas in conjunction with their event to view the exhibits, but the event activities themselves may not be held in those spaces. Pursuant to § 1280.46(c), event attendees may not film, photograph, or videotape in the Rotunda or other Museum areas, including group photographs or videos.

(b) We may, upon application, permit other Federal agencies, quasi-Federal agencies, and state, local, and tribal governments to use the Rotunda for official functions, with NARA as a co-sponsor. Governmental groups that use the Rotunda for official functions must reimburse NARA for the cost of additional cleaning, security, and other staff services, as for use of any other public spaces.

§ 1280.86 National Archives at College Park space available for events.

You may ask to use the following areas:

Table 1 to § 1280.86
Area | Capacity
Auditorium | 300 people.
Lecture rooms | 30 to 70 people (or up to 300 with all dividers removed).

§ 1280.88 When public areas in the National Archives at College Park are available.

(a) Most areas are available for set-up and use from 8:00 a.m. until 5:00 p.m., Monday through Friday, except on Federal holidays. A NARA staff member must be present at all times when the public area is in use. If the space and staff are available, we may approve requests for events held before or after these hours and on weekends or Federal holidays.

(b) Public areas at the National Archives at College Park are normally available for private events or government organization use during normal business hours.

David S. Ferriero,
Archivist of the United States.

[FR Doc. 2020-08755 Filed 5-5-20; 8:45 am]

BILLING CODE 7515-01-P